FEDERAL COMMUNICATIONS COMMISSION

47 CFR Part 73

[DA 01-2156; MM Docket No. 01-243; RM-10263]

Radio Broadcasting Services; Freer, TX

AGENCY: Federal Communications Commission.

ACTION: Proposed rule.

SUMMARY: This document requests comments on a petition for rule making filed by Jeraldine Anderson, requesting the allotment of Channel 288A to Freer, Texas, as that community's second local FM transmission service. This proposal requires a site restriction 6.8 kilometers (4.2 miles) south of the community, utilizing coordinates 27-49-20 NL and 98-38-04 WL. Additionally, as Freer, Texas, is located within 320 kilometers (199 miles) of U.S.-Mexico border, concurrence of the Mexican government to this proposal is required.

DATES: Comments must be filed on or before November 5, 2001, and reply comments on or before November 20, 2001.

ADDRESSES: Secretary, Federal Communications Commission, Washington, DC 20554. In addition to filing comments with the FCC, interested parties should serve the petitioner, as follows: Jeraldine Anderson, 1702 Cypress Drive, Irving, TX 75061.

FOR FURTHER INFORMATION CONTACT: Nancy Joyner, Mass Media Bureau, (202) 418-2180.

SUPPLEMENTARY INFORMATION: This is a synopsis of the Commission's Notice of Proposed Rule Making, MM Docket No. 01-243, adopted September 5, 2001, and released September 14, 2001. The full text of this Commission decision is available for inspection and copying during normal business hours in the FCC's Reference Information Center (Room CY-A257), 445 Twelfth Street, SW., Washington, DC. The complete text of this decision may also be purchased from the Commission's copy contractor, Qualtex International, Portals II, 445 12th Street, SW., Room CY-B402, Washington, DC 20554, (202) 863-2893.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Texas, is amended by adding Channel 288A at Freer.

Federal Communications Commission.
John A. Karousos,
Chief, Allocations Branch, Policy and Rules Division, Mass Media Bureau.

[FR Doc. 01-24139 Filed 9-26-01; 8:45 am]

BILLING CODE 6712-01-P